NATIONAL SCIENCE FOUNDATION

Notice of Permit Applications Received Under the Antarctic Conservation Act of 1978 (Pub. L. 95-541)

AGENCY: National Science Foundation.

ACTION: Notice of Permit Applications Received under the Antarctic Conservation Act of 1979, Pub. L. 95-541.

SUMMARY: The National Science Foundation (NSF) is required to publish notice of permit applications received to conduct activities regulated under the Antarctic Conservation Act of 1978, NSF has published regulations under the Antarctic Conservation Act at Title 45 Part 670 of the Code of Federal Regulations. This is the required notice of permit applications received.

DATES: Interested parties are invited to submit written data, comments, or views with respect to this permit application by August 26, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), as amended by the Antarctic Science Tourism and Conservation Act of 1996, has developed regulations for the establishment of a permit system for various activities in Antarctica and designation of certain animals and certain geographic areas requiring special protection. The regulations establish such a permit system to designate Antarctic Specially Protected Areas.

The applications received are as follows:

1. Applicant: Permit Application No. 2006-018. Sarah Andrews, 8687 Graton Road, Sebastopol, CA 95472.

Activity for Which Permit Is Requested: Enter Antarctic Specially Protected Areas. The applicant proposes to enter the following protected sites: Back Door Bay, Cape Royds (ASPA #156), Cape Evans (ASPA #154), Cape Royds (ASPA #121), and Discovery Hut, Hut Point (ASPA #157). The applicant is a member of the Artists and Writers Program and plans to write a murder mystery that takes place in Antarctica and would like to visit the historic huts and observe penguin behavior to better grasp the experience of the early explorers. The observations will enhance the writer's ability to translate to her readers the experience of place and time of the early explorers.

Location: Back Door Bay, Cape Royds (ASPA #156), Cape Evans (ASPA #154), Cape Royds (ASPA #121), and Discovery Hut, Hut Point (ASPA #157.

Dates: November 01, 2005 to December 31, 2005.

2. Applicant: Permit Application No. 2006-019. Rebecca J. Gast, MS#32 3-24 Redfield Bldg., Woods Hole Oceanographic Institute, Woods Hole, MA 02543.

Activity for Which Permit Is Requested: Introduce Non-Indigenous Species into Antarctica. The applicant proposes to introduce live cultures of marine phytoplankton to study the feeding rates of Antarctic protistan grazers. The cultures are composed exclusively of species (Phaeocystis antarctica, Thalassiosira antarctica, Mantoniella sp., Parauronema, Pyramimonas tychotreta, Paraphysomonas inperforate, Geminigera cryophila, and Mallomonas) that were originally collected to previous research cruises in Antarctica. All cultures will be destroyed after use.

Location: Antarctic water including the Ross Sea.

Dates: October 17, 2005 to December 15, 2005.

3. Applicant: (Permit Application No. 2006-020. George Steinmetz, 190 Linden Avenue, Glen Ridge, NJ 07028.

Activity for Which Permit Is Requested: Introduce Non-Indigenous Species into Antarctica. The applicant proposes to enter a number of Antarctic Specially Protected Areas for the purpose of photographing scenic shots, historic huts, Adelie and Emperor penguins and seals. The applicant is a photographer and member of the Artists and Writers Program who plans to enter the following sites: Cape Royds (ASPA #121), Arrival Heights (ASPA #122), Cape Crozier (ASPA #124), Canada Glacier (ASPA #131), Cape Evans Hut (ASPA #154), Cape Royds Hut (ASPA #156), Discovery Hut (ASPA #157), and the Dry Valleys.

Location: Cape Royds (ASPA #121), Arrival Heights (ASPA #122), Cape Crozier (ASPA #124), Canada Glacier (ASPA #131), Cape Evans Hut (ASPA #154), Cape Royds Hut (ASPA #156), Discovery Hut (ASPA #157), and the Dry Valleys.

Dates: October 08, 2005 to December 03, 2005.

Nadene G. Kennedy,
Permit Officer, Office of Polar Programs.

[FR Doc. 05-14821 Filed 7-26-05; 8:45 am]

BILLING CODE 7555-01-M